DEPARTMENT OF COMMERCE

Foreign-Trade Zones Board

[B-10-2023]

Foreign-Trade Zone (FTZ) 148—Knoxville, Tennessee;Notification of Proposed Production Activity;CoLinx, LLC(Wheel Hub-Bearing Assemblies);Crossville, Tennessee

CoLinx, LLC submitted a notification of proposed production activity to the FTZ Board (the Board) for its facilities in Crossville, Tennessee within FTZ 148. The notification conforming to the requirements of the Board's regulations (15 CFR 400.22) was received on January 27, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished product is wheel hub-bearing assemblies (duty rate 9%).

The proposed foreign-status materials and components include: wheel hubs; steel bearing spacers; vulcanized rubber bearing seals; polyethylene shipping caps for bearing retention; and, tapered roller bearings (duty rate ranges from duty-free to 5.8%). The request indicates that the materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is March 15, 2023.

A copy of the notification will be available for public inspection in the “Online FTZ Information System” section of the Board's website.

For further information, contact Christopher Wedderburn at Chris.Wedderburn@trade.gov.

Dated: January 31, 2023.
Elizabeth Whiteman,
Acting Executive Secretary.

[FR Doc. 2023-02311 Filed 2-2-23; 8:45 am]

BILLING CODE 3510-DS-P